DEPARTMENT OF ENERGY

Federal Energy Regulatory Commission

[Project No. 14851-000]

White Pine Waterpower, LLC; Notice of Preliminary Permit Application Accepted for Filing and Soliciting Comments, Motions To Intervene, and Competing Applications

On July 13, 2017, White Pine Waterpower, LLC, filed an application for a preliminary permit, pursuant to section 4(f) of the Federal Power Act (FPA), proposing to study the feasibility of the White Pine Pumped Storage Project to be located near the town of Ely in White Pine, Nevada. The sole purpose of a preliminary permit, if issued, is to grant the permit holder priority to file a license application during the permit term. A preliminary permit does not authorize the permit holder to perform any land-disturbing activities or otherwise enter upon lands or waters owned by others without the owners' express permission.

The applicant proposes to study two alternative closed-loop pumped storage alternatives at the site: One sized to 250 megawatts (MW) and the other to 500 MW. The 500-MW alternative would consist of the following: (1) A new upper reservoir with a surface area of 52 acres and a storage capacity of 2,400 acre-feet at a surface elevation of approximately 8,530 feet above mean sea level (msl) created through construction of a new earth or rock-filled dam; (2) a new lower reservoir with a surface area of 40 acres and a total storage capacity of 2,400 acre-feet at a surface elevation of 6,290 feet msl; (3) 10,600 feet of tunnel and penstock connecting the upper and lower reservoirs; (5) a new underground powerhouse containing three turbine-generator units; (6) a new 1.5 mile transmission line connecting the powerhouse to a nearby electric grid interconnection, (7) appurtenant facilities. The 500-MW alternative would have an annual generation of 502,717 megawatt-hours (MWh).

For the 250-MW alternative, the new upper and lower reservoirs would be sized to have half of the storage of the 500-MW alternative (1,200 acre-feet), reducing the dam size needed to impound the reservoirs. The alternative would require 11,700 feet of tunnel and penstock and have 2 pump-generating units. The 250-MW alternative would require the same transmission line and would have an estimated annual generation of 547,500 MWh.

Applicant Contact: Matthew Shapiro, CEO, Gridflex Energy, LLC, 1210 W. Franklin Street, Suite 2, Boise, ID 83702.

FERC Contact: Jim Fargo; phone: (202) 502-6095.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14851-000.

More information about this project, including a copy of the application, can be viewed or printed on the eLibrary link of the Commission's Web site at http://www.ferc.gov/docs-filing/elibrary.asp. Enter the docket number (P-14851) in the docket number field to access the document. For assistance, contact FERC Online Support.

Dated: August 7, 2017.
Nathaniel J. Davis, Sr.,
Deputy Secretary.

[FR Doc. 2017-16960 Filed 8-10-17; 8:45 am]

BILLING CODE 6717-01-P